DEPARTMENT OF LABOR

Employment and Training Administration

20 CFR Parts 655 and 656

RIN 1215-AB09

Labor Condition Applications and Requirements for Employers Using Nonimmigrants on H-1B Visas in Specialty Occupations and as Fashion Models; Labor Certification Process for Permanent Employment of Aliens in the United States

AGENCY: Employment and Training Administration, Labor, in concurrence with the Wage and Hour Division, Employment Standards Administration, Labor.

ACTION: Extension of comment period.

SUMMARY: This document extends the period for filing comments regarding the Interim Final Rule (“IFR”) published on December 20, 2000 (65 FR 80110), which implemented the American Competitiveness and Workforce Improvement Act of 1998 (“ACWIA”) and clarified existing Departmental rules relating to the temporary employment in the United States of nonimmigrants under H-1B visas.

DATES: Comments must be received on or before April 23, 2001.

ADDRESSES: Submit written comments concerning Part 655 to Deputy Administrator, Wage and Hour Division, ATTN: Immigration Team, U.S. Department of Labor, Room S-3502, 200 Constitution Avenue, NW., Washington, DC 20210. Commenters who wish to receive notification of receipt of comments are requested to include a self-addressed, stamped post card. Comments may also be transmitted by facsimile (“FAX”) machine to (202) 693-1432. This is not a toll-free number.

Submit written comments concerning Part 656 to the Assistant Secretary for Employment and Training, ATTN: Division of Foreign Labor Certifications, U.S. Employment Service, Employment and Training Administration, Department of Labor, Room C-4318, 200 Constitution Avenue, NW., Washington, DC 20210. Commenters who wish to receive notification of receipt of comments are requested to include a self-addressed, stamped post card. Comments may also be transmitted by facsimile (“FAX”) machine to (202) 693-2769. This is not a toll-free number.

FOR FURTHER INFORMATION CONTACT: Michael Ginley, Director, Office of Enforcement Policy, Wage and Hour Division, Employment Standards Administration, Department of Labor, Room S-3510, 200 Constitution Avenue, NW., Washington, DC 20210. Telephone: (202) 693-0745 (this is not a toll-free number).

Dale M. Ziegler, Chief, Division of Foreign Labor Certifications, U.S. Employment Service, Employment and Training Administration, Department of Labor, Room C-4318, 200 Constitution Avenue, NW., Washington, DC 20210. Telephone: (202) 693-2942 (this is not a toll-free number).

SUPPLEMENTARY INFORMATION: On December 20, 2000, the Department published an Interim Final Rule (65 FR 80110) (“IFR”), following a Notice of Proposed Rulemaking which was published on January 5, 1999 (64 FR 628) (“NPRM”). The IFR revised the Department's regulations relating to the employment of H-1B nonimmigrants as necessitated by the enactment of the American Competitiveness and Workforce Improvement Act of 1998 (“ACWIA”). The IFR also revised certain provisions of the regulations which had been published for comment as a Proposed Rule on October 31, 1995 as well as in the NPRM of January 5, 1999. The IFR sought comments on all provisions of the regulatory revisions, as well as on other matters which were proposed for the first time in the IFR. Interested parties were requested to submitted written comments on or before February 20, 2001.

Because of the continuing interest in the revisions and new proposals made in the IFR, the Department believes that it is desirable to extend the comment period for all interested parties. Therefore, the comment period for the IFR is extended through April 23, 2001.

Signed at Washington, DC, this 15th day of February, 2001.
Raymond J. Uhalde,
Deputy Assistant Secretary, Employment and Training Administration.
Thomas M. Markey,
Acting Administrator, Wage and Hour Division, Employment Standards Administration.

[FR Doc. 01-4244 Filed 2-16-01; 8:45 am]

BILLING CODE 4510-30-P